DEPARTMENT OF THE TREASURY

Internal Revenue Service

26 CFR Part 1

[REG-141901-05]

RIN 1545-BE92

Exchanges of Property for an Annuity

AGENCY: Internal Revenue Service (IRS), Treasury.

ACTION: Change of location of public hearing.

SUMMARY: On October 18, 2006, on page 61441 of the Federal Register (71 FR 61441), a notice of proposed rulemaking and notice of public hearing announced that a public hearing concerning guidance on the taxation of the exchange of property for an annuity contract will be held February 16, 2007 in the auditorium of the New Carrollton Federal Building, 5000 Ellin Road, Lanham, MD 20706. The location of the public hearing has changed.

ADDRESSES: The public hearing will be held in the IRS Auditorium, Internal Revenue Building, 1111 Constitution Avenue, NW., Washington, DC.

FOR FURTHER INFORMATION CONTACT: Concerning submissions of comments, the hearing, and/or to be placed on the building access list to attend the hearing Kelly Banks, (202) 622-0392 (not a toll-free number).

LaNita Van Dyke,
Branch Chief, Publications and Regulations, Associate Chief Counsel, Legal Processing Division (Procedure and Administration).

[FR Doc. E6-22020 Filed 12-26-06; 8:45 am]

BILLING CODE 4830-01-P